DEPARTMENT OF TRANSPORTATION

Federal Aviation Administration

14 CFR Part 39

[Docket No. 2002-NE-22-AD]

RIN 2120-AA64

Airworthiness Directives; Titeflex Corporation

AGENCY: Federal Aviation Administration, DOT.

ACTION: Notice of proposed rulemaking (NPRM).

SUMMARY: The Federal Aviation Administration (FAA) proposes to adopt a new airworthiness directive (AD) that is applicable to certain Titeflex Corporation hoses installed on Boeing 737-300, -400, -500, -600, -700, -700C, -800, -900, 747-400, 757-200, -300, 767-200, -300, and -300F airplanes. This proposal would require within 24 months after the effective date of the AD, inspection of certain Titeflex Corporation hoses for proper date and paint code, replacement if necessary, and if necessary, inspection for proper heat treatment of aluminum B-nuts. This proposal is prompted by certain Titeflex Corporation hoses discovered with incorrect heat treatment of B-nuts. The actions specified by the proposed AD are intended to prevent fire extinguishing system and fuel system hose failure due to improperly heat treated aluminum B-nuts.

DATES: Comments must be received by May 12, 2003.

ADDRESSES: Submit comments in triplicate to the Federal Aviation Administration (FAA), New England Region, Office of the Regional Counsel, Attention: Rules Docket No. 2002-NE-22-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

The service information referenced in the proposed rule may be obtained from Boeing Commercial Airplane Group, P.O. Box 3703, Seattle, Washington 98124-2207. This information may be examined, by appointment, at the FAA, New England Region, Office of the Regional Counsel, 12 New England Executive Park, Burlington, MA.

FOR FURTHER INFORMATION CONTACT: Terry Fahr, Aerospace Engineer, Boston Aircraft Certification Office, FAA, Engine and Propeller Directorate, 12 New England Executive Park, Burlington, MA 01803-5299; telephone (781) 238-7155; fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NE-22-AD.” The postcard will be date stamped and returned to the commenter.

Availability of NPRMs

Any person may obtain a copy of this NPRM by submitting a request to the FAA, New England Region, Office of the Regional Counsel, Attention: Rules Docket No. 2002-NE-22-AD, 12 New England Executive Park, Burlington, MA 01803-5299.

Discussion

In March of 2001, the FAA became aware that some of the B-nuts on certain engine and cargo compartment fire extinguishing system hoses, and on certain fuel hoses, all manufactured by Titeflex Corporation, delivered to Boeing from November 1999 through January 2001, are suspect for improper heat treatment. Improperly heat treated B-nuts can lead to stress corrosion B-nut failure, and inadequate fire protection and fuel leakage. This condition, if not corrected, could result in fire extinguishing system and fuel system hose failure due to improperly heat treated aluminum B-nuts.

Manufacturer's Service Information

The FAA has reviewed and approved the technical contents of the following Boeing alert service bulletins (ASBs):

• ASB 737-26A1108, Revision 1, dated June 27, 2002, applicable to 737-300, -400, and -500 airplanes, that describes procedures for inspecting and replacing if necessary, Titeflex Corporation hoses connected to engine and cargo compartment fire extinguishing bottles.

• ASB 737-26A1109, Revision 1, dated November 7, 2002, applicable to 737-600, -700, -700C, -800, and -900 airplanes, that describes procedures for inspecting and replacing if necessary, Titeflex Corporation hoses connected to engine, auxiliary power unit (APU), and cargo compartment fire extinguishing bottles, and wing-to-strut fuel hoses.

• ASB 747-26A2269, Revision 1, dated June 6, 2002, applicable to 747-400, that describes procedures for inspecting and replacing if necessary, Titeflex Corporation hoses connected to forward cargo and main deck cargo compartment fire extinguishing bottles.

• ASB 757-26A0043, Revision 1, dated November 14, 2002, applicable to 757-200 airplanes, that describes procedures for inspecting and replacing if necessary, Titeflex Corporation hoses connected to engine, APU, and cargo compartment fire extinguishing bottles.

• ASB 757-26A0044, Revision 1, dated November 14, 2002, applicable to 757-300 airplanes, that describes procedures for inspecting and replacing if necessary, Titeflex Corporation hoses connected to engine and cargo compartment fire extinguishing bottles.

• ASB 767-26A0121, dated December 19, 2001, applicable to 767-200, -300, and -300F airplanes, that describes procedures for inspecting and replacing if necessary, Titeflex Corporation hoses connected to cargo compartment fire extinguishing bottles.

Differences Between This AD and the Manufacturer's Service Information

Although the ASBs recommend performing the inspections and replacing unserviceable hoses within 12 months after the initial release dates of ASB 737-26A1108, ASB 737-26A1109, ASB 767-26A0121, and ASB 747-26A2269, and within 18 months after the initial release dates of ASB 757-26A0043 and ASB 757-26A0044, this proposal would require inspections and replacing unserviceable hoses to be done within 24 months after the effective date of the AD. This compliance time was substantiated by analysis by Boeing and coordinated between the FAA and Boeing to help coincide with parts availability.

FAA's Determination of an Unsafe Condition and Proposed Actions

Since an unsafe condition has been identified that is likely to exist or develop on other Titeflex Corporation hoses of the same type design, installed on Boeing 737-300, -400, -500, -600, -700, -700C, -800, -900, 747-400, 757-200, -300, 767-200, -300, and -300F airplanes, the proposed AD would require within 24 months after the effective date of the AD, inspection of hoses for proper date and paint code, replacement if necessary, and if necessary, inspection for proper heat treatment of aluminum B-nuts. The actions would be required to be done in accordance with the alert service bulletins described previously. This proposal has been coordinated with the FAA Transport Airplane Directorate.

Economic Analysis

The FAA estimates that 1,139 airplanes of U.S. registry would be affected by this proposed AD. The FAA also estimates that it would take approximately 35 work hours per airplane to perform the proposed actions, and that the average labor rate is $60 per work hour. Required parts would cost approximately $4,305 per engine. Based on these figures, the total cost of the proposed AD to U.S. operators is estimated to be $7,295,295.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Titeflex Corporation: Docket No. 2002-NE-22-AD.

Applicability: This airworthiness directive (AD) is applicable to certain Titeflex Corporation hoses that are identified by Boeing part number (P/N), or for certain hoses, by Titeflex parts manufacturer approval (PMA) P/N in this AD. These hoses are used on, but not limited to Boeing 737-300, -400, -500, -600, -700, -700C, -800, and -900; 757-200 and -300; 767-200, -300, and -300F; and 747-400 airplanes.

Note 1: This AD applies to each hose identified in the preceding applicability provision, regardless of whether it has been modified, altered, or repaired in the area subject to the requirements of this AD. For hoses that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance

Compliance with this AD is required as indicated, unless already done.

To prevent fire extinguishing system and fuel system hose failure due to improperly heat treated aluminum B-nuts, do the following:

(a) Within 24 months after the effective date of this AD, inspect the manufacture date code on all hoses listed in Table 1 of this AD, in accordance with the Accomplishment Instructions of the applicable Boeing alert service bulletins (ASB) contained in Table 1 of this AD. Table 1 follows:

Table 1.—Applicable Hose P/Ns
Airplane model | Boeing hose p/n | Titeflex PMA p/n | Used for— | Applicable alert service bulletin—
(1) 737-300, -400, and -500 airplanes | S312N512-5, S312N512-6, BACH5R0110YP, BACH5S0110XN | 113701-5, 113701-6 | Engine and cargo compartment fire extinguishing bottles | 737-26A1108, Revision 1, dated June 27, 2002.
(2) 737-600, -700, -700C, -800, and -900 airplanes | S316A001-1, S316A001-2, S312N512-15, S312N512-17, S312N512-18, BACH5R0110YP, BACH5S0110XN | 115398-1, 115398-2, 113701-15, 113701-17, 113701-18 | Engine, auxiliary power unit (APU), and cargo compartment fire extinguishing bottles, and wing-to-strut fuel hoses | 737-26A1109, Revision 1, dated November 7, 2002.
(3) 747-400 airplanes | BACH5R0080YY, BACH5R0140YU, BACH5S0140XT, BACH5R0186YY, BACH5R0186XX, BACH5S0080XX, BACH5S0080YY, BACH5S0110XN |  | Forward cargo and main deck cargo compartment fire extinguishing bottles | 747-26A2269, Revision 1, dated June 6, 2002.
(4) 757-200 airplanes | S312N512-1, S312N512-2, S312N512-3, S312N512-4, BACH5R0110YP, BACH5S0110XN | 113701-1, 113701-2, 113701-3, 113701-4 | Engine, APU, and cargo compartment fire extinguishing bottles | 757-26A0043, Revision 1, dated November 14, 2002.
(5) 757-300 airplanes | S312N512-1, S312N512-2, S312N512-3, S312N512-4, BACH5R0110YP, BACH5S0074XN | 113701-1, 113701-2, 113701-3, 113701-4 | Engine and cargo compartment fire extinguishing bottles | 757-26A0044, Revision 1, dated November 14, 2002.
(6) 767-200, -300, and -300F airplanes | BACH5R0085YU, BACH5R0140YU, BACH5S0077XT, BACH5S0140XT, BACH5S0184XX, BACH5R0127YY |  | Cargo compartment fire extinguishing bottles | 767-26A0121, dated December 19, 2001.

(b) If the hose manufacture date code is before 11/99 or after 1/01, or if the manufacture date is 11/99 through 1/01 and there is a permanent white dot on the ID band, no further action is required for that hose.

(c) If the hose manufacture date code is 11/99 through 1/01 inclusive and there is no permanent white dot on the ID band, replace the hose with a serviceable hose or perform an indirect conductive inspection/test for proper heat treat, in accordance with the accomplishment instructions of the applicable ASB listed in Table 1 of this AD.

(d) Replace the hose with a serviceable hose if any B-nut is improperly heat treated.

Credit for Previous Inspections

(e) Previous inspections performed using ASB 737-26A1108, dated November 15, 2001, ASB 737-26A1109, dated November 15, 2001, ASB 747-26A2269, dated November 1, 2001, ASB 757-26A0043, dated November 15, 2001, and ASB 757-26A0044, dated November 15, 2001, comply with the inspection requirements of this AD.

Alternative Methods of Compliance

(f) An alternative method of compliance or adjustment of the compliance time that provides an acceptable level of safety may be used if approved by the Manager, Boston Aircraft Certification Office (ACO). Operators must submit their request through an appropriate FAA Principal Maintenance Inspector, who may add comments and then send it to the Manager, Boston ACO.

Note 2: Information concerning the existence of approved alternative methods of compliance with this airworthiness directive, if any, may be obtained from the Boston ACO.

Special Flight Permits

(g) Special flight permits may be issued in accordance with §§ 21.197 and 21.199 of the Federal Aviation Regulations (14 CFR 21.197 and 21.199) to operate the airplane to a location where the requirements of this AD can be done.

Issued in Burlington, Massachusetts, on March 6, 2003.
Jay J. Pardee,
Manager, Engine and Propeller Directorate, Aircraft Certification Service.

[FR Doc. 03-6043 Filed 3-12-03; 8:45 am]

BILLING CODE 4910-13-P